DEPARTMENT OF EDUCATION

Notice of Final Waiver and Extension of the Project Period for the Literacy Information and Communication System Regional Professional Development Centers

AGENCY: Office of Career, Technical, and Adult Education, Department of Education.

ACTION: Notice, Correction.

Catalog of Federal Domestic Assistance (CFDA) Number: 84.191B.

SUMMARY: On June 2, 2014, the Department of Education published in the Federal Register (79 FR 31315) a final waiver and extension of the project period for the Literacy Information and Communication System (LINCS) Regional Professional Development Centers (RPDCs) (Final Waiver and Extension). This notice corrects errors that appeared on pages 31315 and 31316 of the Final Waiver and Extension in the identification of the year of the extension and the fiscal year (FY) funds that would be used for continuation awards during the extension of the project period.

FOR FURTHER INFORMATION CONTACT: Patricia Bennett, U.S. Department of Education, 400 Maryland Avenue SW., Room 11013, Potomac Center Plaza, Washington, DC 20202-2600. Telephone: (202) 245-7758.

If you use a telecommunications device for the deaf (TDD), call the Federal Relay Service (FRS), toll-free, at 1-800-877-8339.

SUPPLEMENTARY INFORMATION: We make the following corrections:

On page 31315 in the third column in the SUMMARY section, second sentence, first clause, we remove the phrase “FY 2015 with FY 2014 funds” and replace it with the phrase “FY 2014 with FY 2013 funds”. The sentence now correctly reads, “This will enable the four current LINCS RPDC grantees that received awards under the FY 2011 competition to seek a continuation award for one additional year through FY 2014 with FY 2013 funds; and we will not announce a new LINCS RPDC competition for FY 2014.”

On page 31316, in the first column in SUPPLEMENTARY INFORMATION, last sentence, we remove the phrase “FY 2015 with FY 2014 funds” replace it with the phrase “FY 2014 with FY 2013 funds”. The sentence now correctly reads, “The Secretary also proposed to extend the project period of LINCS RPDC grants for an additional 12 months to enable the four current LINCS RPDC grantees that received awards under the FY 2011 competition to seek a continuation award for one additional year through FY 2014 with FY 2013 funds.”

On page 31316, under Background, in the third paragraph of the third column, fifth and sixth lines, we remove the reference to “in FY 2014”, and in the eighth line, we remove the reference to “FY 2015” and replace it with “FY 2014”. The sentence now correctly reads, “The Secretary's waiver of 34 CFR 75.261(a) and (c)(2) and extension of the current LINCS RPDC project period means that: (1) Current LINCS RPDC grantees will be authorized to request and receive LINCS RPDC continuation awards for one additional year through FY 2014; (2) we will not announce a new LINCS RPDC competition to make new awards in FY 2014 . . .”

On page 31316, under Background, in the fifth paragraph of the third column, we remove the phrase “FY 2015” with FY 2014, funds” and replace it with the phrase “FY 2014, with FY 2013 funds”. The sentence now correctly reads, “With this final waiver and extension of the project period, the current four LINCS RPDC grantees may request continuation awards for one additional project year, through FY 2014, with FY 2013 funds Congress has appropriated under the current authority in section 243(2)(H) of the AEFLA.”

Accessible Format: Individuals with disabilities can obtain this document in an accessible format (e.g., braille, large print, audiotape, or computer diskette) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 21, 2015.
Johan E. Uvin,
Acting Assistant Secretary for Career, Technical, and Adult Education.

[FR Doc. 2015-18222 Filed 7-23-15; 8:45 am]

BILLING CODE 4000-01-P